DEPARTMENT OF AGRICULTURE

National Institute of Food and Agriculture

Privacy Act of 1974; System of Records

AGENCY: National Institute of Food and Agriculture, United States Department of Agriculture.

ACTION: Notice of a revised system of records.

SUMMARY: In accordance with the Privacy Act of 1974, the Department of Agriculture (“USDA”), National Institute of Food and Agriculture (“NIFA”) is revising one Privacy Act system of records titled, ”Veterinary Medicine Loan Repayment Program Records System, USDA/NIFA-1” published on 12/13/2010 to update the system location, categories of records, authorities, purposes, routine uses, and record sources.

DATES: Submit comments on or before April 9, 2018. The revisions to this system will be effective April 9, 2018.

ADDRESSES: You may submit comments, identified by [Docket No. 2018-0001] by one of the following methods:

• Federal e-Rulemaking Portal: http://www.regulations.gov. Follow the instructions for submitting comments.

• Email: vmlrp@nifa.usda.gov. Include the text “VMLRP System of Records” in the subject line of the message.

• Fax: (202) 401-7752.

• Mail: Joseph Perez; Program Analyst, Office of Grants and Financial Management; National Institute of Food and Agriculture, Department of Agriculture, STOP 2272, 1400 Independence Avenue SW, Washington, DC 20250-2272.

• Hand Delivery/Courier: Joseph Perez; Program Analyst, Office of Grants and Financial Management; National Institute of Food and Agriculture; Department of Agriculture; Room 2302, Waterfront Centre; 800 9th Street SW, Washington, DC 20024.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Joseph Perez, Program Analyst, Office of Grants and Financial Management, National Institute of Food and Agriculture, Department of Agriculture, STOP 2272, 1400 Independence Avenue SW, Washington, DC 20250-2272; Voice: 202-401-3486; Fax: 202-401-6158; Email: jperez@nifa.usda.gov. For privacy issues, please contact: Marj Leaming, USDA Privacy Officer, Policy, E-Government and Fair Information Practices, Office of the Chief Information Officer, USDA, 1400 Independence Avenue SW, Room 450-W, Washington, DC 20250; telephone 202-205-0926.

SUPPLEMENTARY INFORMATION:

I. Background

In accordance with the Privacy Act of 1974, Veterinary Medicine Loan Repayment Program, USDA/NIFA-1, is being revised. The purpose of this revision to the system of records is to update the system location, add additional categories of records maintained in this system, add additional purposes for this system, update the authorities to add 31 U.S.C. 7701 and delete 26 U.S.C. 6109, and add one additional record source.

NIFA has made editorial changes to Routine Use I concerning the parent locator service for clarification. In addition, four routine uses were added as follows:

• Routine Use U. was added for disclosure of records to other federal agencies, entities, or persons when a breach is suspected or confirmed to prevent, minimize or remedy any harm.

• Routine Use V. was added to permit another federal agency or federal entity to investigate breaches and remedy risk to individuals.

• Routine Use W. was added for disclosure for contractors to assist in administering the program.

• Routine Use X. was added for disclosure to credit bureaus to conduct identity proofing.

One routine use was revised as follows:

• Routine Use F, was revised to require the entities listed to maintain PA safeguards with respect to the records

The entire notice is republished for the convenience of the public.

Consistent with USDA's information sharing mission, information stored in the “Veterinary Medicine Loan Repayment Program Records System, USDA/NIFA-1” may be shared with other USDA components, as well as appropriate Federal, State, local, tribal, foreign, or international government agencies as permitted by the Privacy Act. This sharing will only take place after USDA determines that the receiving component or entity has a need to know the information to carry out national security, law enforcement, immigration, intelligence, or other functions consistent with the routine uses set forth in this system of records notice or the provisions of the Privacy Act.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents.

The Privacy Act requires each agency to publish in the Federal Register a description denoting the type and character of each system of records that the agency maintains, and the routine uses that are contained in each system in order to make agency record keeping practices transparent, to notify individuals regarding the uses to their records are put, and to assist individuals to more easily find such files within the agency.

Below is the description of the Veterinary Medicine Loan Repayment Program system of records, USDA/NIFA-1.

In accordance with 5 U.S.C. 552a(r), USDA has provided a report of this system of records to the Office of Management and Budget and to Congress.

Dated: December 27, 2017.
Sonny Ramaswamy,
Director, National Institute of Food and Agriculture, U.S. Department of Agriculture.

SYSTEM NAME AND NUMBER:

Veterinary Medicine Loan Repayment Program (VMLRP) Record System, USDA/NIFA-1.

SECURITY CLASSIFICATION:

None.

SYSTEM LOCATION:

Records are maintained at National Institute of Food and Agriculture (NIFA), Department of Agriculture (USDA), 800 9th Street SW, Washington, DC 20024.

SYSTEM MANAGER:

Program Coordinator, Division of Animal Systems, National Institute of Food and Agriculture, Department of Agriculture, 1400 Independence Avenue SW, Washington, DC 20250.

AUTHORITY FOR MAINTENANCE OF THE SYSTEM:

7 U.S.C. 3151a; 28 U.S.C. 3201; 31 U.S.C. 7701.

PURPOSE(S) OF THE SYSTEM:

The purpose of this system is to: (1) Identify and select applicants for the Veterinary Medicine Loan Repayment Program (VMLRP); (2) monitor loan repayment activities, such as payment tracking, deferment of service obligation, and default; (3) compile and generate statistical reports (4) respond to inquiries from Program applicants and participants, their qualified representatives, and Congressional representatives and (5) assist NIFA officials in the collection of overdue debts owed under the VMLRP. Records may be transferred to “Administrative Billings and Collections, National Finance Center, Office of the Chief Financial Officer, USDA, for debt collection purposes when NIFA officials are unable to collect overdue debts owed under the VMLRP.

CATEGORIES OF INDIVIDUALS COVERED BY THE SYSTEM:

Categories of individuals covered by this system include: Individuals who have applied for, who have been approved to receive, are receiving, and have received funds under the VMLRP; and individuals who are interested in participation in the VMLRP.

CATEGORIES OF RECORDS IN THE SYSTEM:

Categories of records in this system include: Name, address, Social Security number, program application and associated forms (which includes reports and surveys), service pay-back obligations, employment data, professional performance and credentialing history of licensed veterinarians; personal, professional, and demographic background information; standard veterinary school expected expenses; financial data including loan balances, deferment, forbearance, and repayment/delinquent/default status information; commercial credit reports; educational data including tuition and other related educational expenses; educational data including academic program and status; employment status verification (which includes certifications and verifications of continuing participation in qualified service); Federal, State and county tax related information, including copies of tax returns, correspondence to and from Program applicants and participants and/or their representatives.

RECORD SOURCE CATEGORIES:

Records are obtained by subject individual; participating lending and loan servicing institutions; educational and grantee institutions; other Federal agencies; consumer reporting agencies/credit bureaus; National Student Clearinghouse; employers of subject individuals currently participating in VMLRP; and third parties that provide references concerning the subject individual.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside USDA as a routine use pursuant to 5 U.S.C. 552a(b)(3) as follows:

A. To the Department of Justice (DOJ), including United States Attorney Offices, or other Federal agency conducting litigation or in proceedings before any court, adjudicative or administrative body, when it is necessary to the litigation and one of the following is a party to the litigation or has an interest in such litigation:

1. USDA or any component thereof;

2. Any employee of USDA in his/her official capacity;

3. Any employee of USDA in his/her individual capacity where DOJ or USDA has agreed to represent the employee; or

4. The United States or any agency thereof, is a party to the litigation or has an interest in such litigation, and USDA determines that the records are both relevant and necessary to the litigation and the use of such records is compatible with the purpose for which USDA collected the records.

B. To a congressional office from the record of an individual in response to an inquiry from that congressional office made at the written request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. NIFA suspects or has confirmed that the security or confidentiality of information in the system of records has been compromised;

2. USDA has determined that as a result of the suspected or confirmed compromise there is a risk of harm to economic or property interests, identity theft or fraud, or harm to the security or integrity of this system or other systems or programs (whether maintained by USDA or another agency or entity) or harm to the individual that rely upon the compromised information; and

3. The disclosure made to such agencies, entities, and persons is reasonably necessary to assist in connection with USDA's efforts to respond to the suspected or confirmed compromise and prevent, minimize, or remedy such harm.

F. To contractors and their agents, grantees, experts, consultants, and others performing or working on a contract, service, grant, cooperative agreement, or other assignment for USDA, when necessary to accomplish an agency function related to this system of records. Individuals provided information under this routine use are subject to the same Privacy Act requirements and limitations on disclosure as are applicable to USDA officers and employees. Before entering into such a contract, the Department shall require the contractor to maintain Privacy Act safeguards as required under 5 U.S.C. 552a(m) with respect to the records in the system.

G. To an appropriate Federal, State, Tribal, local, international, or foreign law enforcement agency or other appropriate authority charged with investigating or prosecuting a violation or enforcing or implementing a law, rule, regulation, or order, where a record, either on its face or in conjunction with other information, indicates a violation or potential violation of law, which includes criminal, civil, or regulatory violations, whether arising by general statute or particular program statute, or by regulation, rule or order issued pursuant thereto if the information disclosed is relevant to any enforcement, regulatory, investigative, or prosecutive responsibility of the receiving entity.

H. USDA will disclose information about individuals from this system of records in accordance with the Federal Funding Accountability and Transparency Act of 2006 (Pub. L. 109-282; codified at 31 U.S.C. 6101, et seq.); section 204 of the E-Government Act of 2002 (Pub. L. 107-347; 44 U.S.C. 3501 note), and the Office of Federal Procurement Policy Act (41 U.S.C. 403 et seq.), or similar statutes requiring agencies to make available publicly information concerning Federal financial assistance, including grants, subgrants, loan awards, cooperative agreements and other financial assistance; and contracts, subcontracts, purchase orders, task orders, and delivery orders.

I. NIFA may disclose the name and current address of an individual to the parent locator service of the Department of Health and Human Services or other authorized person pursuant to 42 U.S.C. 653. J. NIFA may disclose information from this system of records to private parties such as present and former employers, references listed on applications and associated forms, other references and educational institutions, as necessary to evaluate an individual's professional and or academic accomplishments and plans, performance, credentials, and educational background, and to determine if an applicant is suitable for participation in the VMLRP.

K. NIFA may disclose from this system of records a delinquent debtor's or a defaulting participant's name, address, Social Security number, and other information necessary to identify him/her; the amount, status, and history of the claim, and the agency or program under which the claim arose, as follows:

1. To another Federal agency so that agency can affect a salary offset for debts owed by Federal employees; if the claim arose under the Social Security Act, the employee must have agreed in writing to the salary offset.

2. To another Federal agency so that agency can affect an authorized administrative offset; i.e., withhold money, other than Federal salaries, payable to or held on behalf of the individual.

3. To the Treasury Department, Internal Revenue Service (IRS), to request an individual's current mailing address to locate him/her for purposes of either collecting or compromising a debt or to have a commercial credit report prepared.

L. NIFA may disclose information from this system of records to another agency that has asked the USDA to affect a salary or administrative offset to help collect a debt owed to the United States. Disclosure is limited to the individual's name, address, Social Security number, and other information necessary to identify the individual, information about the money payable to or held for the individual, and other information concerning the offset.

M. NIFA may disclose to the IRS information about an individual applying for the VMLRP to find out whether the applicant has a delinquent tax account. This disclosure is for the sole purpose of determining the applicant's creditworthiness and is limited to the individual's name, address, Social Security number, other information necessary to identify him/her, and the program for which the information is being obtained.

N. NIFA may report to the IRS, as taxable income, the written-off amount of a debt owed by an individual to the Federal Government when a debt becomes partly or wholly uncollectible, either because the time period for collection under statute or regulations has expired, or because the Government agrees with the individual to forgive or compromise the debt.

O. NIFA may disclose to debt collection agents, other Federal agencies, and other third parties who are authorized to collect a Federal debt, information necessary to identify a delinquent debtor or a defaulting participant. Disclosure will be limited to the individual's name, address, Social Security number, and other information necessary to identify him/her; the amount, status, and history of the claim, and the agency or program under which the claim arose.

P. NIFA may disclose information from this system of records to any third party that may have information about a delinquent debtor's or a defaulting participant's current address, such as a U.S. post office, a State motor vehicle administration, a university's office of the registrar or dean's office, a professional organization, an alumni association, etc., for the purpose of obtaining the individual's current address. This disclosure will be strictly limited to information necessary to identify the individual, without any reference to the reason for the agency's need for obtaining the current address.

Q. NIFA may disclose information from this system of records to other Federal agencies that also provide loan repayment at the request of these Federal agencies in conjunction with a matching program conducted by these Federal agencies to detect or curtail fraud and abuse in Federal loan repayment programs, and to collect delinquent loans or benefit payments owed to the Federal Government.

R. NIFA will disclose from this system of records to the Department of Treasury, IRS: (1) A delinquent debtor's or a defaulting participant's name, address, Social Security number, and other information necessary to identify the individual; (2) the amount of the debt; and (3) the program under which the debt arose, so that the IRS can offset against the debt any income tax refunds which may be due to the individual.

S. NIFA may disclose information provided by a lender or educational institution to other Federal agencies, debt collection agents, and other third parties who are authorized to collect a Federal debt. The purpose of this disclosure is to identify an individual who is delinquent in loan or benefit payments owed to the Federal Government and the nature of the debt.

T. NIFA may disclose records to USDA contractors and subcontractors for the purpose of recruiting, screening, and matching veterinarians for employment in qualified shortage area positions under the VMLRP. In addition, USDA contractors and subcontractors:

1. May disclose biographic data and information supplied by potential applicants.

(a) To references listed on application and associated forms for the purpose of evaluating the applicant's professional qualifications, experience, and suitability, and

(b) to a State or local government veterinary medical licensing board and/or to the American Association of Veterinary State Boards or a similar nongovernmental entity for the purpose of verifying that all claimed background and employment data are valid and all claimed credentials are current and in good standing;

2. May disclose biographic data and information supplied by references listed on application and associated forms to other references for the purpose of inquiring into the applicant's professional qualifications and suitability; and

3. May disclose professional suitability evaluation information to NIFA officials for the purpose of appraising the applicant's professional qualifications and suitability for participation in the VMLRP.

Contractors maintain, and are also required to ensure that subcontractors maintain, Privacy Act safeguards with respect to such records.

U. To appropriate agencies, entities, and persons when (1) NIFA suspects or has confirmed that there has been a breach of the system of records, (2) NIFA has determined that as a result of the suspected or confirmed breach there is a risk of harm to individuals, NIFA (including its information systems, programs, and operations), the Federal Government, or national security; and (3) the disclosure made to such agencies, entities, and persons is reasonably necessary to assist in connection with NIFA efforts to respond to the suspected or confirmed breach or to prevent, minimize, or remedy such harm.

V. To another Federal agency or Federal entity, when NIFA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

W. If the Department contracts with an entity for the purpose of performing any function that requires disclosure of records including but not limited to helpdesk operations, password resets, system administration, application operations, program support, the Department may disclose the records as a routine use to those contract employees, when necessary to accomplish an agency function related to this system of records. Individuals provided information under this routine use are subject to the same Privacy Act requirements and limitations on disclosure as are applicable to USDA officers and employees. Before entering into such a contract, the Department shall require the contractor to maintain Privacy Act safeguards as required under 5 U.S.C. 552a(m) with respect to the records in the system.

X. Disclosures may be made from this system to “consumer reporting agencies” as defined in the Federal Claims Collection Act of 1966, as amended (31 U.S.C. 3701(a)(3)). The purposes of these disclosures are: (1) To provide an incentive for debtors to repay delinquent debts to the Federal Government by making these debts part of their credit records, and (2) to enable NIFA to improve the quality of loan repayment decisions by taking into account the financial reliability of applicants, including obtaining a commercial credit report to assess and verify the ability of an individual to repay debts owed to the Federal Government. Disclosure of records will be limited to the individual's name, Social Security number, and other information necessary to establish the identity of the individual, the amount, status, and history of the claim, and the agency or program under which the claim arose.

POLICIES AND PRACTICES FOR STORAGE OF RECORDS:

Records in this system are stored electronically or on paper in secure facilities. The records are stored in file folders and electronic media, including computer tape, discs, servers, connected to local area networks, and internet servers.

POLICIES AND PRACTICES FOR RETRIEVAL OF RECORDS:

Records may be retrieved by name, Social Security number, or other identifying numbers or characteristics.

POLICIES AND PRACTICES FOR RETENTION AND DISPOSAL OF RECORDS:

Records are retained and disposed of under the authority of the REE Policies and Procedures contained in REE Manual 251.8 “Records Management” and 251.8M “Records Management (Manual)”, which establishes REE policies and procedures for the creation, maintenance, and disposition of records, and in accordance with the General Records Schedules issued by the National Archives and Records Administration.

ADMINISTRATIVE, TECHNICAL, AND PHYSICAL SAFEGUARDS:

Records in this system are safeguarded in accordance with applicable rules and policies, including all applicable USDA automated systems security and access policies. Strict controls have been imposed to minimize the risk of compromising the information that is being stored. Access to the computer system containing the records in this system is limited to those individuals who have a need to know the information for the performance of their official duties and who have appropriate clearances or permissions. Physical records (files and folders) are stored in an enclosed office that is controlled by on-site personnel and will be locked whenever the room is not in use, even during regular business hours. Security guards perform random checks on the physical security of the data after hours, including weekends and holidays. A password is required to access the terminal and a data set name controls the release of data to only authorized users. Data on local area network computer files is accessed by keyword known only to authorized personnel.

RECORD ACCESS PROCEDURES:

See “NOTIFICATION PROCEDURE”.

CONTESTING RECORD PROCEDURES:

See “NOTIFICATION PROCEDURE”.

NOTIFICATION PROCEDURE:

Individuals seeking notification of and access to any record contained in this system of records, or seeking to contest its content, may submit a request in writing to the Headquarters or component's Freedom of Information Act (FOIA) Officer, whose contact information can be found at http://www.da.usda.gov/foia.htm under “contacts.” If an individual believes more than one component maintains Privacy Act records concerning him or her, the individual may submit the request to the Chief FOIA Officer, Department of Agriculture, 1400 Independence Avenue SW, Washington, DC 20250.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief FOIA Officer, Department of Agriculture, 1400 Independence Avenue SW, Washington, DC 20250. In addition you should provide the following:

An explanation of why you believe the Department would have information on you; Identify the component(s) of the Department you believe may have the information about you; Specify when you believe the records would have been created; Any additional information that will help the FOIA staff determine which USDA component agency may have responsive records; The dates of enrollment in the VMLRP and current enrollment status, such as pending application approval or approved for participation; If your request is seeking records pertaining to another living individual, you must include a statement from that individual certifying his/her agreement for you to access his/her records. Without this bulleted information the component(s) may not be able to conduct an effective search, and your request may be denied due to lack of specificity or lack of compliance with applicable regulations.

EXEMPTIONS PROMULGATED FOR THE SYSTEM:

None.

HISTORY:

75 FR 77607.

[FR Doc. 2018-04759 Filed 3-8-18; 8:45 am]

BILLING CODE 3410-22-P